NATIONAL SCIENCE FOUNDATION

Sunshine Act Meetings

The National Science Board's (NSB) Committee on Oversight hereby gives notice of the scheduling of a teleconference for the transaction of National Science Board business pursuant to the National Science Foundation Act and the Government in the Sunshine Act.

TIME AND DATE: Wednesday, January 26, 2022, from 1:00-2:15 p.m. EST.

PLACE: This meeting will be held by teleconference through the National Science Foundation.

STATUS: Parts of this meeting will be open to the public. The rest of the meeting will be closed to the public.

MATTERS TO BE CONSIDERED: Committee Chair's opening remarks; Approval of prior Committee minutes; Discussion of Committee plans for the remainder of the NSB term; Committee Chair's opening remarks; Presentation on NSF's Annual Performance Report, and Committee discussion.

PORTIONS OPEN TO THE PUBLIC: Between 1:00-1:30 p.m. EST, the following matters will be considered: Committee Chair's opening remarks; Approval of prior Committee minutes; Discussion of Committee plans for the remainder of the NSB term.

PORTIONS CLOSED TO THE PUBLIC: Between 1:30-2:15 p.m. EST, the following matters will be considered: Committee Chair's opening remarks; Presentation on NSF's Annual Performance Report, and Committee discussion.

CONTACT PERSON FOR MORE INFORMATION: Point of contact for this meeting is: Chris Blair, 703/292-7000. Members of the public may observe the public portion of the meeting, which will be streamed to the NSB YouTube channel. A link to the YouTube page can be found at https://www.nsf.gov/nsb/meetings/index.jsp#up.

Chris Blair,
Executive Assistant to the National Science Board Office.

[FR Doc. 2022-01380 Filed 1-20-22; 4:15 pm]

BILLING CODE 7555-01-P